ENVIRONMENTAL PROTECTION AGENCY

[EPA-HQ-OPP-2020-0060; FRL-8858-01-OCSPP]

Cancellation Order for Certain Pesticide Registrations and Amendments To Terminate Uses; Correction

AGENCY: Environmental Protection Agency (EPA).

ACTION: Notice; correction.

SUMMARY: EPA issued a notice in the Federal Register of April 2, 2021, concerning the cancellations and amendments to terminate uses voluntarily requested by the registrants and accepted by the Agency. This document is being issued to correct the cancellation order in Table 1 of Unit I, by removing the registration number 66570-2 and Table 3 of Unit I, by removing EPA company number 66570, as these entries were made in error.

FOR FURTHER INFORMATION CONTACT: Christopher Green, Registration Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2020-0060, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

Due to the public health concerns related to COVID-19, the EPA Docket Center (EPA/DC) and Reading Room is closed to visitors with limited exceptions. The staff continues to provide remote customer service via email, phone, and webform. For the latest status information on EPA/DC services and docket access, visit https://www.epa.gov/dockets.

II. What does this correction do?

This notice is being issued to correct Table 1 and Table 3 of Unit I of the cancellation notice. This correction removes registration number 66570-2 and company number 66570, as these entries were entered in error and the registration should not be cancelled. FR Doc. 2021-06851 published in the Federal Register on April 02, 2021, (86 FR 17382) (FRL-10021-91).

Authority: 7 U.S.C. 136 et seq.

Dated: August 20, 2021.
Catherine Aubee,
Acting Director, Registration Division, Office of Pesticide Programs.

[FR Doc. 2021-19184 Filed 9-3-21; 8:45 am]

BILLING CODE 6560-50-P